DEPARTMENT OF TRANSPORTATION

Maritime Administration

[Docket Number: MARAD-2000-7936]

Requested Administrative Waiver of the Coastwise Trade Laws

AGENCY: Maritime Administration, Department of Transportation.

ACTION: Invitation for public comments on a requested administrative waiver of the Coastwise Trade Laws for the vessel Lucky Dog.

SUMMARY: As authorized by Pub. L. 105-383, the Secretary of Transportation, as represented by the Maritime Administration (MARAD), is authorized to grant waivers of the U.S.-build requirement of the coastwise laws under certain circumstances. A request for such a waiver has been received by MARAD. The vessel, and a description of the proposed service, is listed below. Interested parties may comment on the effect this action may have on U.S. vessel builders or businesses in the U.S. that use U.S.-flag vessels. If MARAD determines that in accordance with Pub. L. 105-383 and MARAD's regulations at 46 CFR Part 388 (65 FR 6905; February 11, 2000) that the issuance of the waiver will have an unduly adverse effect on a U.S.-vessel builder or a business that uses U.S.-flag vessels, a waiver will not be granted.

DATES: Submit comments on or before October 23, 2000.

ADDRESSES: Comments should refer to docket number MARAD-2000-7936. Written comments may be submitted by hand or by mail to the Docket Clerk, U.S. DOT Dockets, Room PL-401, Department of Transportation, 400 7th St., SW., Washington, DC 20590-0001. You may also send comments electronically via the Internet at http://dmses.dot.gov/submit/. All comments will become part of this docket and will be available for inspection and copying at the above address between 10 a.m. and 5 p.m., e.t., Monday through Friday, except federal holidays. An electronic version of this document and all documents entered into this docket is available on the World Wide Web at http://dms.dot.gov.

FOR FURTHER INFORMATION CONTACT: Gordon Angell, U.S. Department of Transportation, Maritime Administration, MAR-832 Room 7201, 400 Seventh Street, S.W., Washington, DC 20590. Telephone 202-366-5129.

SUPPLEMENTARY INFORMATION: Title V of Pub. L. 105-383 provides authority to the Secretary of Transportation to administratively waive the U.S.-build requirements of the Jones Act, and other statutes, for small commercial passenger vessels (no more than 12 passengers). This authority has been delegated to the Maritime Administration per 49 CFR § 1.66, Delegations to the Maritime Administrator, as amended. By this notice, MARAD is publishing information on a vessel for which a request for a U.S.-build waiver has been received, and for which MARAD requests comments from interested parties. Comments should refer to the docket number of this notice and the vessel name in order for MARAD to properly consider the comments. Comments should also state the commenter's interest in the waiver application, and address the waiver criteria given in § 388.4 of MARAD'S regulations at 46 CFR part 388.

Vessel Proposed for Waiver of the U.S.-build Requirement:

(1) Name of vessel and owner for which waiver is requested. Name of vessel: Lucky Dog. Owner: Relentless Charters Inc.

(2) Size, capacity and tonnage of vessel. According to the applicant: “The vessel is 34 feet in length and 13 feet 7 inches in breadth. Gross tonnage as determined by 46 CFR 69 subpart E is 21.65.”

(3) Intended use for vessel, including geographic region of intended operation and trade. According to the applicant: “The intended use for the vessel is operating as an uninspected passenger vessel pursuant to 46 CFR 10.205. This regulation calls for a maximum of 6 passengers and a range of no more than 100 miles from shore. Charter services will be offered for the purpose of scuba diving and sport fishing. The geographic region of operation will be the Gulf of Mexico from Sarasota Florida to Bayonet Point Florida, extending 100 miles into the gulf.”

(4) Date and Place of construction and (if applicable) rebuilding. Date of construction: 1973. Place of construction: Omastrand Norway.

(5) A statement on the impact this waiver will have on other commercial passenger vessel operators. According to the applicant: “I believe that granting this waiver will not unduly adversely affect other commercial passenger vessel operators. The area where I will be operating attracts numerous tourists from around the world, many of whom are interested in fishing or diving local waters. It has been my observation that the demand for charter services far exceeds the supply in this area. I currently do not advertise and in spite of my low profile, I am solicited to charter nearly every week. Obviously, I decline since I lack the appropriate documentation.”

(6) A statement on the impact this waiver will have on U.S. shipyards. According to the applicant: “I believe that the impact to U.S. shipyards is positive. I do not think that a vessel that is 27 years old carries any impact on shipyards that produce new vessels. On the other hand, using this vessel for commercial use will necessitate refurbishment and repowering that will benefit U.S. shipyards that perform this type of work.”

Dated: September 19, 2000.
By Order of the Maritime Administrator.
Murray A. Bloom,
Acting Secretary, Maritime Administration.

[FR Doc. 00-24427 Filed 9-21-00; 8:45 am]

BILLING CODE 4910-81-P